EXECUTIVE OFFICE OF THE PRESIDENT

Office of Administration

Privacy Act of 1974: Revisions to System of Records: New System and Addition of Standard Routine Uses

AGENCY: Office of Administration, Executive Office of the President.

ACTION: Notice of the publication to add a new system of records and add standard routine uses.

SUMMARY: Pursuant to the Privacy Act of 1974 (5 U.S.C. 552a), the Office of Administration, Executive Office of the President (OA/EOP), is proposing to create a new Privacy Act systems of records and add standard routine uses for all its systems of records. This proposal provides notice of the planned: (1) creation of one new system. The new system, OA/EOP/08 “Employee Transportation Facilitation,” includes information maintained by the Office of Administration on parking permits, carpool and vanpool members, and transportation subsidies for individuals who work for the following Executive Office of the President Organizations: Council on Environmental Quality, Office of Administration, Office of Management and Budget, Office of National Drug Control Policy, Office of Science and Technology Policy, and the United States Trade Representative. (2) Addition of standard routine uses for all OA/EOP systems of records.

DATES: The notice for the new system of records and standard routine uses will become effective as published on April 26, 2004, unless the Office of Administration publishes a notice to the contrary. Comments on these systems of records should be submitted in writing before April 26, 2004.

ADDRESSES: All written comments concerning these systems of records should be submitted to the General Counsel, Office of Administration, Executive Office of the President, 725 17th Street, NW., Washington, DC 20503 and sent by facsimile to (202) 456-7921.

Keith L. Roberts,
Acting General Counsel.

Privacy Act Systems—Standard Routine Uses—Office of Administration

The following standard routine uses apply, subject to the Privacy Act of 1974, except where otherwise noted or where obviously not appropriate, to each system of records maintained by the Office of Administration.

1. Law Enforcement—In the event that this system of records indicates a violation or potential violation of law, whether civil, criminal, or regulatory in nature, and whether arising by general statute or particular program statute, or by regulation, rule or order issued pursuant thereto, the relevant records in the system of records may be referred, as a routine use, to the appropriate agency, whether Federal, State, local or foreign, charged with the responsibility of investigating or prosecuting such violation or charged with enforcing or implementing the statute, or rule, regulation or order issued pursuant thereto.

2. Disclosure When Requesting Information—A record from this system of records may be disclosed as a routine use to a Federal, State, or local agency maintaining civil, criminal, or other relevant enforcement information or other pertinent information, such as current licenses, if necessary to obtain information relevant to an agency decision concerning the hiring or retention of an employee, the issuance of a security clearance, the letting of a contract, or the issuance of a license, grant, or other benefit.

3. Disclosure of Requested Information—A record from this system of records may be disclosed to a Federal agency, in response to its request, in connection with the hiring or retention of an employee, the issuance of a security clearance, the reporting of an investigation of an employee, the letting of a contract, or the issuance of a license, grant, or other benefit by the requesting agency, to the extent that the information is relevant and necessary to the requesting agency's decision on the matter.

4. Department of Justice or Other Agency—In the event there is a pending court or formal administrative proceeding, any records which are relevant to the proceeding may be disclosed to the Department of Justice or other agency for purposes of representing the government, or in the course of presenting evidence, or they may be produced to parties or counsel involved in the proceeding in the course of pretrial discovery.

5. Equal Employment Opportunity Commission and the Merit Systems Protection Board—In order to facilitate their processing of discrimination complaints, including investigations, hearings, and reviews on appeals; any records which are relevant to the proceeding may be disclosed to the agency conducting the review; responses to other Federal agencies and other organizations having legal and administrative responsibilities related to the OA Equal Employment Opportunity Programs and to individuals in the record.

6. Congressional Inquires—Disclosure may be made to a Congressional office from the record of an individual in response to a written inquiry from the Congressional office made on behalf of the individual. In such cases, however, the Congressional office does not have greater rights to records than the individual. Thus, the disclosure may be withheld from delivery to the individual where the file contains investigative or actual information or other materials which are being used, or are expected to be used, to support prosecution or fines against the individual for violations of a statute, or of regulations of the Department based on statutory authority. No such limitations apply to records requested for Congressional oversight or legislative purposes. Release is authorized under 49 CFR 10.35(9).

7. Third Party—Disclosure may be made to a third party for (1) verification of an employee's status upon written request of the employee; (2) to facilitate the verification of employee contributions for insurance data with carriers and collection agents; (3) to provide various Federal, State, and local taxing authorities itemized listing of withholdings for individual income taxes; (4) to respond to State employment compensation requests for wage and separation data on former employees; (5) to report previous job injuries to worker's compensation organizations; (6) for person to notify in an emergency; (7) to report unemployment record to appropriate State and local authorities; and (8) when requested, provide other employers with work record.

8. Delinquent Debts—Where applicable, delinquent debts, and all relevant information related thereto, may be forwarded to (1) the U.S. Department of Treasury, for collection; and (2) to the Office of Child Support Enforcement, Administration for Children and Families, Department of Health and Human Services, National Directory of New Hires, part of the Federal Parent Locator Service (FPLS) and the Federal Tax Offset System, DHHS/OCSE No. 09-90-0074, for the purpose of locating individuals to establish paternity, establishing and modifying orders of child support, identifying sources of income, and for other child support enforcement actions as required by the Personal Responsibility and Work Opportunity Reconciliation Act of 1996 (Pub. L. 104-193); and

9. Office of Personnel Management—Disclosure may be made to the Office of Personnel Management concerning information on pay and leave, benefits, retirement deductions, and any other information necessary for the Office of Personnel Management to carry out its legally authorized government-wide personnel management functions and studies.

10. General Services Administration—Disclosure may be made to the General Services Administration for the purpose of records management inspections conducted under authority of 44 U.S.C. 2904 and 2906.

11. National Archives and Records Administration—Disclosure may be made to the National Archives and Records Administration for the purpose of records management inspections conducted under authority of 44 U.S.C. 2904 and 2906.

12. Merit Systems Protection Board—Disclosure may be made to the Merit Systems Protection Board, including the Office of the Special Counsel for the purpose of litigation, including administrative proceedings, appeals, special studies of the civil service and other merit systems, review of OPM or component rules and regulations, investigation of alleged or possible prohibited personnel practices; including administrative proceedings involving any individual subject of an OA investigation, and such other functions, promulgated in 5 U.S.C 1205 and 1206, or as may be authorized by law.

OA/EOP-08

SYSTEM NAME:

Employee Transportation Facilitation.

SYSTEM LOCATION:

Office of Administration, Human Resources Management, 725 17th Street, NW., Washington, DC 20503 will keep transportation subsidy records. Office of Administration, Facilities Management Division, 725 17th Street, NW., Washington, DC 20503 will keep parking management records.

CATEGORIES OF INDIVIDUALS COVERED BY THE SYSTEM:

Holders of parking permits, applicants for ridesharing information, members of carpools and vanpools, and applicants and recipients of fare subsidies who are employees with the following organizations within the EOP: Council on Environmental Quality, Office of Administration, Office of Management and Budget, Office of National Drug Control Policy, Office of Science and Technology Policy, and United States Trade Representative. The information in this system of records is kept by the Office of Administration to administer employee transportation programs on behalf of the EOP organizations listed above.

CATEGORIES OF RECORDS IN THE SYSTEM:

Records of holders of parking permits and records of carpool and vanpool members. Records and reports of status of rideshare applications; copies of applications and match letters received by rideshare applicants; applications and certifications of fare subsidy recipients; records and reports of disbursements to fare subsidy recipients; and information on local public mass transit facilities and fare subsidy programs.

AUTHORITY FOR MAINTENANCE OF THE SYSTEM:

Federal Property and Administrative Services Act of 1949, as amended; title 5 U.S.C. 301.

PURPOSE:

Parking management and fare subsidy management.

ROUTINE USES OF RECORDS MAINTAINED IN THE SYSTEM, INCLUDING CATEGORIES OF USERS AND THE PURPOSES OF SUCH USES:

Carpool listing produced for use in creating or enlarging carpools or vanpools. Used for production of listings and reports. Used for periodic review or revalidation. Used as part of a program designed to ensure eligibility for, and receipt of, fare subsidy. See Standard Routine Uses.

DISCLOSURES TO CONSUMER REPORTING AGENCIES:

Disclosures pursuant to 5 U.S.C. 552a(b)(12). Disclosures may be made from this system to consumer reporting agencies (collecting on behalf of the United States Government) as defined in the Fair Credit Reporting Act (15 U.S.C. 1681a(f)) or the Federal Claims Collection Act of 1982 (31 U.S.C. 3701(a)(3)).

POLICES AND PRACTICES FOR STORING, RETRIEVING, ACCESSING, RETAINING, AND DISPOSING OF RECORDS IN THE SYSTEM:

STORAGE:

Records are stored in hard copy or electronically.

RETRIEVABILITY:

Records can be retrieved in hard copy form by name or electronically by employee name or social security number, or by ZIP code of residence, as applicable.

SAFEGUARDS:

Except for carpool listings, access is accorded only to parking and fare subsidy management offices. Printout of carpool listing used in matching program has name, agency, Office of Administration permit number, and work telephone number only and is available upon request.

RETENTION AND DISPOSAL:

Data are deleted and not retained on ADP once the individual leaves the system for any reason (i.e., is no longer on the ridesharing listing, is no longer a member of a carpool or vanpool, or no longer receives a fare subsidy). Record copies of monthly reports and listings are retained for three years, forwarded to the Federal Records Center for two more years, and then destroyed.

SYSTEM MANAGER (S) AND ADDRESS:

Office of Administration, Human Resources Management, 725 17th Street, NW., Washington, DC 20503 will keep transportation subsidy records. Office of Administration, Facilities Management Division, 725 17th Street, NW., Washington, DC 20503 will keep parking management records.

NOTIFICATION PROCEDURE:

Current or former employees seeking access to information about themselves contained in this system of records should address written inquiries to the system manager. Employees should provide full name, social security number, valid identification; and any other information verifiable from this record.

RECORD ACCESS PROCEDURES:

Same as above.

CONTESTING RECORD PROCEDURES:

Same as above.

RECORD SOURCE CATEGORIES:

Applications submitted by individuals for parking permits, carpool and vanpool membership, ridesharing information, and fare subsidies; from notifications from other Federal agencies in the program; and from periodic certifications and reports regarding fare subsidies, as applicable.

SYSTEM EXEMPTED FROM CERTAIN PROVISIONS OF THE ACT:

None.

[FR Doc. 04-5846 Filed 3-15-04; 8:45 am]

BILLING CODE 3115-W4-P